DEPARTMENT OF LABOR

Office of the Secretary

Agency Information Collection Activities; Submission for OMB Review; Comment Request; Application for Alien Employment Certification

ACTION: Notice.

SUMMARY: The Department of Labor (DOL) hereby announces the submission of the information collection request (ICR) sponsored by the Employment and Training Administration (ETA) titled, “Application for Alien Employment Certification,” to the Office of Management and Budget (OMB) for review and approval for continued use in accordance with the Paperwork Reduction Act of 1995 (Pub. L. 104-13, 44 U.S.C. chapter 35).

DATES: Submit comments on or before February 23, 2011.

ADDRESSES: A copy of this ICR, with applicable supporting documentation; including a description of the likely respondents, proposed frequency of response, and estimated total burden may be obtained from the RegInfo.gov Web site, http://www.reginfo.gov/public/do/PRAMain or by contacting Michel Smyth by telephone at 202-693-4129 (this is not a toll-free number) or sending an e-mail to DOL_PRA_PUBLIC@dol.gov.

Submit comments about this request to the Office of Information and Regulatory Affairs, Attn: OMB Desk Officer for the Department of Labor, Employment and Training Administration (ETA), Office of Management and Budget, Room 10235, Washington, DC 20503, Telephone: 202-395-6929/Fax: 202-395-6881 (these are not toll-free numbers), e-mail: OIRA_submission@omb.eop.gov.

FOR FURTHER INFORMATION CONTACT: Contact Michel Smyth by telephone at 202-693-4129 (this is not a toll-free number) or by e-mail at DOL_PRA_PUBLIC@dol.gov.

SUPPLEMENTARY INFORMATION: This information collection permits the DOL to meet its statutory responsibilities for program administration, management, and oversight under the Immigration and Naturalization Act. Form ETA 750 part A collects information needed for the professional athlete labor certification program for both temporary and permanent athletes. The H-2B program establishes a means for employers to bring nonimmigrant aliens to the U.S. to perform nonagricultural work of a temporary or seasonal nature as defined at 8 U.S.C. 1101(a)(15)(H)(ii)(b) and explained in regulations section 8 CFR 214.2(h)(6). Professional athletes are included in the H-2B program. Form ETA 750 part B collects information about the professional athlete on whose behalf an application for permanent labor certification is filed. Part B is also required by the DHS for aliens applying for the National Interest Waiver (NIW) of the job offer requirement. Part B provides detailed information about an alien's education and work history, as required and explained in regulations section 8 CFR 204.5(k)(4)(ii).

Under the PRA, a Federal agency generally cannot conduct or sponsor a collection of information unless it is currently approved by the OMB under the PRA and displays a currently valid OMB control number. Furthermore, the public is generally not required to respond to a collection of information unless it displays a currently valid OMB control number. In addition, notwithstanding any other provisions of law, no person shall generally be subject to penalty for failing to comply with a collection of information if the collection of information does not display a currently valid OMB control number. See 5 CFR 1320.5(a) and 1320.6. The DOL obtains OMB approval for this information collection under OMB Control Number 1205-0015. The current OMB approval is scheduled to expire on January 31, 2011; however, it should be noted that information collections submitted to the OMB receive a month-to-month extension while they undergo review. For additional information, see the related notice published in the Federal Register on August 20, 2010 (75 FR 51484).

Interested parties are encouraged to send comments to the OMB, Office of Information and Regulatory Affairs at the address shown in the ADDRESSES section within 30 days of publication of this notice in the Federal Register. In order to ensure appropriate consideration, comments should reference OMB Control Number 1205-0015. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Revision of a currently approved collection.

Title of Collection: Application for Alien Employment Certification.

Form Number: ETA-750 part A, ETA-750 part B.

OMB Control Number: 1205-0015.

Affected Public: Private sector, businesses or other for-profits and not-for-profit institutions.

Total Estimated Number of Respondents: 2,035.

Total Estimated Number of Responses: 2,035.

Total Estimated Annual Burden Hours: 3,696.

Total Estimated Annual Costs Burden: $207,747.

Dated: January 18, 2011.
Michel Smyth,
Departmental Clearance Officer.

[FR Doc. 2011-1294 Filed 1-21-11; 8:45 am]

BILLING CODE 4510-30-P